DEPARTMENT OF THE INTERIOR

National Park Service

Notice of Inventory Completion: Memphis Pink Palace Museum, Memphis, TN

AGENCY: National Park Service, Interior.

ACTION: Notice.

Notice is here given in accordance with the Native American Graves Protection and Repatriation Act (NAGPRA), 25 U.S.C. 3003, of the completion of an inventory of human remains in the possession of the Memphis Pink Palace Museum, Memphis, TN. The human remains were removed from Crittenden, Cross, Poinsett, and St. Francis Counties, AR; Coahoma and Desoto Counties, MS; and Tipton County, TN.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by Memphis Pink Palace Museum professional staff and consultants in consultation with representatives of the Quapaw Tribe of Indians, Oklahoma.

On an unknown date, human remains representing a minimum of three individuals were removed from the Bradley site (3CT7), Crittenden County, AR, by Mr. J.E. Boone, an avocational archeologist. The human remains were kept in Mr. Boone's private collection until they were donated to the museum in 1983 and 1984 (Accn. #1983.74.1, 1984.8.49, and 1984.8.50). No known individuals were identified. No associated funerary objects are present.

In 1972, human remains representing a minimum of one individual were removed from the Togo site (3CS24), Cross County, AR, during amateur excavations. The human remains were donated to the museum by Ms. Dorothy Strum (Accn. #1972.31.737). No known individual was identified. No associated funerary objects are present.

On an unknown date, human remains representing a minimum of one individual were removed from the Taylor site (possibly also known as Taylor's Shanty), Poinsett County, AR, by Mr. Boone. The human remains were kept in his private collection until they were donated to the museum in 1984 (Accn. #1984.8.51). No known individual was identified. No associated funerary objects are present.

On an unknown date, human remains representing a minimum of one individual were removed from the Hughes Plantation near Hughes, St. Francis County, AR, by Mr. Dallas Gatewood III, an avocational archeologist. In 1984, Mr. Gatewood III donated the human remains to the museum (Accn. #1971.32.3). No known individual was identified. No associated funerary objects are present.

In 1951, human remains representing a minimum of one individual were removed from the Pelegrin site, which is a component of the Carson Mounds, near Clarksdale, in Coahoma County, MS, during a field trip sponsored by the Memphis Archaeological and Geological Society. The human remains were accessioned by the museum in 1952 (Accn. #1952.2). No known individual was identified. No associated funerary objects are present.

Prior to 1972, human remains representing a minimum of six individuals were removed near the Walls site (22DS500), DeSoto County, MS, during amateur excavations. The human remains were donated to the museum in 1972 (Accn. #1972.28.1-5). No known individuals were identified. No associated funerary objects are present.

In the 1930s, human remains representing a minimum of four individuals were removed from the Bishop site (40TP10), also called “Big Hatchie Mound,” Tipton County, TN, by Elbert L. Roper, an avocational archeologist. Mr. Roper excavated Hatchie River bottoms in Lauderdale and Tipton Counties. Dr. Robert Mainfort of the Arkansas Archaeological Survey stated, “Roper referred to the Hatchie River bottoms in Lauderdale and Tipton counties as the `Big Hatchie Country' and I think that `mound' just got added on. Certainly the bulk of his stuff is from Morgan's Point/Bishop (40TP10).” The human remains were loaned to the museum in 1939, and the loan was converted to a gift in 1969 (Accn. #1969.17.4-7). No known individuals were identified. No associated funerary objects are present.

Based on the skeletal and dental morphology, as well as accession records, officials of the Memphis Pink Palace Museum have determined that the above-mentioned human remains are Native American. Based on the ceramic styles and construction of pottery related to the sites, but that are not associated funerary objects, the human remains can be associated with the Nodena, Parkin and Walls Phases of the Late Mississippian and proto-historic periods (A.D. 1350-1650).

Oral traditional and archeological evidence indicate that the Quapaw occupied and hunted in the central Mississippi Valley, including the modern city of Memphis, TN, for generations prior to European contact. Historical documentation identifies Quapaw villages located on both sides of the Mississippi River in the Central Mississippi Valley as early as the mid-1500s. Based on historical and archeological evidence, the Bradley site (3CT7) has been identified as Pacaha, the principal town of the Pacaha chiefdom during the DeSoto entrada in Arkansas (A.D. 1541-1543). Linguistic evidence indicates a possible link between the “Capaha” (a.k.a. Pacaha) in a Spanish account, and a late 17th century Quapaw Indian village name “Kappaha” or “Kappa.” French maps and documents (A.D. 1673-1720), indicate that only the Quapaw had villages on both sides of the Mississippi River in eastern Arkansas and western Mississippi, and much of northeastern Arkansas was hunting territory. Therefore, the sites are within the traditional territory of the Quapaw. Descendants of the Quapaw are members of the Quapaw Tribe of Indians, Oklahoma. Finally, the Quapaw Tribe of Indians, Oklahoma, under the NAGPRA process, have previously repatriated Native American human remains and associated funerary objects, and have been determined to be culturally affiliated with the cultural assemblages fround on archeological sites related to Nodena, Parkin and Walls phases.

Officials of the Memphis Pink Palace Museum have determined that, pursuant to 25 U.S.C. 3001(9), the human remains described above represent the physical remains of 17 individuals of Native American ancestry. Officials of the Memphis Pink Palace Museum also have determined that, pursuant to 25 U.S.C. 3001(2), there is a relationship of shared group identity that can be reasonably traced between the Native American human remains and the Quapaw Tribe of Indians, Oklahoma.

Representatives of any other Indian tribe that believes itself to be culturally affiliated with the human remains should contact Louella Weaver, Memphis Pink Palace Museum, 3050 Central Ave., Memphis, TN 38111, telephone (901) 320-6322, before September 24, 2010. Repatriation of the human remains to the Quapaw Tribe of Indians, Oklahoma, may proceed after that date if no additional claimants come forward.

The Memphis Pink Palace Museum is responsible for notifying the Quapaw Tribe of Indians, Oklahoma, that this notice has been published.

Dated: August 19, 2010
David Tarler,
Acting Manager, National NAGPRA Program.

[FR Doc. 2010-21186 Filed 8-4-10; 8:45 am]

BILLING CODE 4312-50-S